ENVIRONMENTAL PROTECTION AGENCY

40 CFR Part 52

[EPA-R03-OAR-2007-0521; FRL-8731-9]

Approval and Promulgation of Air Quality Implementation Plans; Virginia; Virginia Major New Source Review, Prevention of Significant Deterioration (PSD)

AGENCY: Environmental Protection Agency (EPA).

ACTION: Final rule.

SUMMARY: EPA is granting limited approval of a State Implementation Plan (SIP) revision submitted by the Commonwealth of Virginia. This revision action establishes the limited approval of a State Implementation Plan (SIP) revision submitted by the Commonwealth of Virginia on October 10, 2006. The intended effect of this action is to grant limited approval of the September 1, 2006 regulatory amendments to Virginia's existing new source review permit program for owners of sources located or locating in prevention of significant deterioration (PSD) areas. This action is being taken under the Clean Air Act (CAA or the Act).

DATES: Effective Date: This final rule is effective on November 21, 2008.

ADDRESSES: EPA has established a docket for this action under Docket ID Number EPA-R03-OAR-2007-0521. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Air Protection Division, U.S. Environmental Protection Agency, Region III, 1650 Arch Street, Philadelphia, Pennsylvania 19103. Copies of the State submittal are available at the Virginia Department of Environmental Quality, 629 East Main Street, Richmond, Virginia 23219.

FOR FURTHER INFORMATION CONTACT: Sharon McCauley, (215) 814-3376, or by e-mail at mccauley.sharon@epa.gov.

SUPPLEMENTARY INFORMATION:

I. Background

On June 27, 2008 (73 FR 36481), EPA published a notice of proposed rulemaking (NPR) proposing limited approval of amendments to Virginia's existing new source review permit program for owners of sources located or locating in prevention of significant deterioration (PSD) areas. The formal SIP revision request was submitted by Virginia on October 10, 2006.

The request consisted of changes to Legislative Rules 9 VAC 5 Chapter 50, Article 4—Stationary Sources and 9 VAC 5 Chapter 80, Article 8—Permits for Construction and Major Modification of Major Stationary Sources of Air Pollution for the Prevention of Significant Deterioration. These rules were adopted by the Commonwealth of Virginia State Air Pollution Control Board on June 21, 2006 and became effective September 1, 2006. The Commonwealth adopted the regulations in order to meet the relevant plan requirements of 40 CFR 51.166. Other specific requirements of this SIP revision and the rationale for EPA's proposed action are explained in the NPR and will not be restated here. No public comments were received on the NPR.

In this action, EPA is granting limited approval of the changes found in Chapter 50, Article 4 and Chapter 80, Article 8. Virginia also submitted changes to 9 VAC Chapter 80 Article 6—Permits for New and Modified Stationary Sources as part of the SIP revision. However, as stated in the NPR, EPA is not taking any action on Article 6 at this time.

II. Summary of SIP Revision

What is being addressed in this document?

Virginia currently has an EPA-approved NSR program for new and modified sources. In this action, EPA is granting limited approval of the Virginia pre-construction permitting program as submitted on October 10, 2006 for sources located or locating in PSD areas.

Why is Virginia changing its New Source Review program?

In EPA's December 2002 regulatory new source review reform action, EPA changed many aspects of the regulations governing the PSD and nonattainment NSR programs collectively referred to as “NSR”. Virginia accepted the conceptual framework of EPA's NSR reform revisions but tailored the program to their State-specific objectives. Virginia's regulations differ in some respects from EPA's regulations. However, these differences are not significant. EPA has concluded that Virginia's regulations conform to the minimum program elements in 40 CFR 51.166 despite some variations in their rules from the federal program. All notable variations were described in the proposal action and will not be restated here.

III. Limited Approval

Why is EPA granting only “limited approval” of Virginia's NSR Reform regulations for PSD areas?

Virginia Regulation 9 VAC 5-80-1615 added a new definition to reflect changes to the NSR program in the 2002 Federal NSR Reform rule. Virginia's definition for “baseline actual emissions” varies from the Federal definition at 40 CFR 51.166(b)(47) in two ways. First, for both electric generating units (EGUs) and non-EGUs, Virginia's rule allows the use of different baselines for different pollutants if the owner can demonstrate to the satisfaction of the State Air Pollution Control Board (Board) that a different baseline period for a different pollutant(s) is more appropriate due to extenuating circumstances. This is acceptable to EPA.

However, for non-EGUs, the 24-month baseline period must occur within the five-year period preceding the date the owner begins actual construction or the permit application is deemed complete, whichever is earlier, unless the Board allows a different time period that it deems is more representative of normal source operations. Allowing a more representative time period is acceptable, however, the Commonwealth's regulations could be interpreted to allow this period to be established beyond the 10-year period allowed in the federal NSR Reform rule. As described in our June 27 proposed rule, Virginia regulations meet the general federal criteria for expanding the lookback period beyond the old requirement of the most recent 24-month period, and in this respect are consistent with federal requirements.

EPA is granting limited approval because the language of the regulation does not limit the lookback period to the federally mandated 10 years. Virginia has represented to EPA that the regulation was not intended to allow sources to extend the lookback period beyond 10 years. EPA would look unfavorably upon any use of discretion by Virginia that would allow for baselines that exceed a 10-year lookback period. EPA expects Virginia to correct the definition at 9 VAC 5-80-1615 by limiting the discretionary lookback period to 10 years. When Virginia makes this amendment, they may submit the revised regulations for consideration for full approval of the PSD program.

Despite the fact that the Virginia PSD regulations may literally be construed to allow for a source to look beyond the 10 years prescribed by the Federal regulations, the Virginia regulations nevertheless will strengthen the Virginia SIP.

IV. General Information Pertaining to SIP Submittals From the Commonwealth of Virginia

In 1995, Virginia adopted legislation that provides, subject to certain conditions, for an environmental assessment (audit) “privilege” for voluntary compliance evaluations performed by a regulated entity. The legislation further addresses the relative burden of proof for parties either asserting the privilege or seeking disclosure of documents for which the privilege is claimed. Virginia's legislation also provides, subject to certain conditions, for a penalty waiver for violations of environmental laws when a regulated entity discovers such violations pursuant to a voluntary compliance evaluation and voluntarily discloses such violations to the Commonwealth and takes prompt and appropriate measures to remedy the violations. Virginia's Voluntary Environmental Assessment Privilege Law, Va. Code Sec. 10.1-1198, provides a privilege that protects from disclosure documents and information about the content of those documents that are the product of a voluntary environmental assessment. The Privilege Law does not extend to documents or information (1) that are generated or developed before the commencement of a voluntary environmental assessment; (2) that are prepared independently of the assessment process; (3) that demonstrate a clear, imminent and substantial danger to the public health or environment; or (4) that are required by law.

On January 12, 1998, the Commonwealth of Virginia Office of the Attorney General provided a legal opinion that states that the Privilege law, Va. Code Sec. 10.1-1198, precludes granting a privilege to documents and information “required by law,” including documents and information “required by Federal law to maintain program delegation, authorization or approval,” since Virginia must “enforce Federally authorized environmental programs in a manner that is no less stringent than their Federal counterparts * * *.” The opinion concludes that “[r]egarding § 10.1-1198, therefore, documents or other information needed for civil or criminal enforcement under one of these programs could not be privileged because such documents and information are essential to pursuing enforcement in a manner required by Federal law to maintain program delegation, authorization or approval.”

Virginia's Immunity law, Va. Code Sec. 10.1-1199, provides that “[t]o the extent consistent with requirements imposed by Federal law,” any person making a voluntary disclosure of information to a state agency regarding a violation of an environmental statute, regulation, permit, or administrative order is granted immunity from administrative or civil penalty. The Attorney General's January 12, 1998 opinion states that the quoted language renders this statute inapplicable to enforcement of any Federally authorized programs, since “no immunity could be afforded from administrative, civil, or criminal penalties because granting such immunity would not be consistent with Federal law, which is one of the criteria for immunity.”

Therefore, EPA has determined that Virginia's Privilege and Immunity statutes will not preclude the Commonwealth from enforcing its PSD program consistent with the Federal requirements. In any event, because EPA has also determined that a state audit privilege and immunity law can affect only state enforcement and cannot have any impact on Federal enforcement authorities, EPA may at any time invoke its authority under the CAA, including, for example, sections 113, 167, 205, 211 or 213, to enforce the requirements or prohibitions of the state plan, independently of any state enforcement effort. In addition, citizen enforcement under section 304 of the Clean Air Act is likewise unaffected by this, or any, state audit privilege or immunity law.

V. Final Action

EPA is granting limited approval of the Virginia Major New Source Review regulations for facilities located or locating in PSD areas as a revision to the Virginia SIP. EPA has determined that the regulatory amendments to Virginia's PSD permit program at Chapter 50, Article 4 and Chapter 80, Article 8, as submitted on October 10, 2006 meet the minimum requirements of 40 CFR 51.166 and the Clean Air Act.

VI. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal requirement, and does not alter the relationship or the distribution of power and responsibilities established in the Clean Air Act. This rule also is not subject to Executive Order 13045 (62 FR 19885, April 23, 1997), because it approves a state rule implementing a Federal standard.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by December 22, 2008. Filing a petition for reconsideration by the Administrator of this final rule does not affect the finality of this rule for the purposes of judicial review nor does it extend the time within which a petition for judicial review may be filed, and shall not postpone the effectiveness of such rule or action. This action granting limited approval of the Virginia NSR program for sources locating or located in PSD areas may not be challenged later in proceedings to enforce its requirements. (See section 307(b)(2).)

List of Subjects in 40 CFR Part 52

Environmental protection, Air pollution control, Carbon monoxide, Incorporation by reference, Intergovernmental relations, Nitrogen dioxide, Ozone, Particulate matter, Reporting and recordkeeping requirements, Sulfur oxides, Volatile organic compounds.

Dated: October 9, 2008.
William T. Wisniewski,
Acting Regional Administrator, Region III.

40 CFR part 52 is amended as follows:

PART 52—[AMENDED]

1. The authority citation for 40 CFR part 52 continues to read as follows:

Authority: 42 U.S.C. 7401 et seq.

Subpart VV—Virginia

2. In §52.2420, the table in paragraph (c) is amended by

a. Revising the entries for 5-50-250 and 5-50-280.

b. Removing the entries for 5-80-1700 through 5-80-1970 inclusive.

c. Adding entries for 5-80-1605 through 5-80-1995 inclusive.

The additions and revisions read as follows:

§52.2420 Identification of plan.

* * * * *

(c) * * *

EPA-Approved Regulations in the Virginia SIP
State citation (9 VAC 5 Chapter 80) | Title/subject | State effective date | EPA approval date | Explanation [former SIP citation]
| * * * * * * *
Chapter 50 Article 4 Standards of Performance for Stationary Sources (Rule 5-4)
| * * * * * * *
5-50-250 | Definitions | 9/1/06 | 10/22/08 [Insert page number where the document begins] | Revised definition of New Source Review Program. Limited Approval.
| * * * * * * *
5-50-280 | Standards for Major Stationary Sources (Prevention of Significant Deterioration Areas) | 9/1/06 | 10/22/08 [Insert page number where the document begins] | Changes “Pollutant subject to regulation under the federal Clean Air Act” to “Regulated NSR pollutant”. Limited Approval.
| * * * * * * *
Chapter 80 Article 8, Permits for Major Stationary Sources and Major Modifications Locating in Prevention of Significant Deterioration Areas
5-80-1605 | Applicability | 9/1/06 | 10/22/08 [Insert page number where the document begins] | 5-80-1700. Limited Approval.
5-80-1615 | Definitions | 9/1/06 | 10/22/08 [Insert page number where the document begins] | 5-80-1710. Limited Approval.
5-80-1625 | General | 9/1/06 | 10/22/08 [Insert page number where the document begins] | 5-80-1720. Limited Approval.
5-80-1635 | Ambient Air Increments | 9/1/06 | 10/22/08 [Insert page number where the document begins] | 5-80-1730. Limited Approval.
5-80-1645 | Ambient Air Ceilings | 9/1/06 | 10/22/08 [Insert page number where the document begins] | 5-80-1740. Limited Approval.
5-80-1655 | Applications | 9/1/06 | 10/22/08 [Insert page number where the document begins] | 5-80-1750. Limited Approval.
5-80-1665 | Compliance with local zoning requirements | 9/1/06 | 10/22/08 [Insert page number where the document begins] | 5-80-1760. Limited Approval.
5-80-1675 | Compliance determination and verification by performance testing | 9/1/06 | 10/22/08 [Insert page number where the document begins] | 5-80-1770. Limited Approval.
5-80-1685 | Stack Heights | 9/1/06 | 10/22/08 [Insert page number where the document begins] | 5-80-1780. Limited Approval.
5-80-1695 | Exemptions | 9/1/06 | 10/22/08 [Insert page number where the document begins] | New. Limited Approval.
5-80-1705 | Control technology review | 9/1/06 | 10/22/08 [Insert page number where the document begins] | 5-80-1800. Limited Approval.
5-80-1715 | Source impact analysis | 9/1/06 | 10/22/08 [Insert page number where the document begins] | 5-80-1810. Limited Approval.
5-80-1725 | Air quality models | 9/1/06 | 10/22/08 [Insert page number where the document begins] | 5-80-1820. Limited Approval.
5-80-1735 | Air quality analysis | 9/1/06 | 10/22/08 [Insert page number where the document begins] | 5-80-1830. Limited Approval.
5-80-1745 | Source Information | 9/1/06 | 10/22/08 [Insert page number where the document begins] | 5-80-1840. Limited Approval.
5-80-1755 | Additional impact analysis | 9/1/06 | 10/22/08 [Insert page number where the document begins] | 5-80-1850. Limited Approval.
5-80-1765 | Sources affecting federal class I areas—additional requirements | 9/1/06 | 10/22/08 [Insert page number where the document begins] | 5-80-1860. Limited Approval.
5-80-1775 | Public participation | 9/1/06 | 10/22/08 [Insert page number where the document begins] | 5-80-1870. Limited Approval.
5-80-1785 | Source obligation | 9/1/06 | 10/22/08 [Insert page number where the document begins] | 5-80-1880. Limited Approval.
5-80-1795 | Environmental impact statements | 9/1/06 | 10/22/08 [Insert page number where the document begins] | 5-80-1890. Limited Approval.
5-80-1805 | Disputed permits | 9/1/06 | 10/22/08 [Insert page number where the document begins] | 5-80-1900. Limited Approval.
5-80-1815 | Interstate pollution abatement | 9/1/06 | 10/22/08 [Insert page number where the document begins] | 5-80-1910. Limited Approval.
5-80-1825 | Innovative control technology | 9/1/06 | 10/22/08 [Insert page number where the document begins] | 5-80-1920 Limited Approval.
5-80-1835 | Reserved | 9/1/06 | 10/22/08 [Insert page number where the document begins] | New. Limited Approval.
5-80-1845 | Reserved | 9/1/06 | 10/22/08 [Insert page number where the document begins] | New. Limited Approval.
5-80-1855 | Reserved | 9/1/06 | 10/22/08 [Insert page number where the document begins] | New. Limited Approval.
5-80-1865 | Actuals plantwide applicability (PAL) | 9/1/06 | 10/22/08 [Insert page number where the document begins] | New. Limited Approval.
5-80-1925 | Changes to permits | 9/1/06 | 10/22/08 [Insert page number where the document begins] | New. Limited Approval.
5-80-1935 | Administrative permit amendments | 9/1/06 | 10/22/08 [Insert page number where the document begins] | New. Limited Approval.
5-80-1945 | Minor permit amendments | 9/1/06 | 10/22/08 [Insert page number where the document begins] | New. Limited Approval.
5-80-1955 | Significant amendment procedures | 9/1/06 | 10/22/08 [Insert page number where the document begins] | New. Limited Approval.
5-80-1965 | Reopening for cause | 9/1/06 | 10/22/08 [Insert page number where the document begins] | New. Limited Approval.
5-80-1975 | Transfer of permits | 9/1/06 | 10/22/08 [Insert page number where the document begins] | 5-80-1940. Limited Approval.
5-80-1985 | Permit invalidation, revocation, and enforcement | 9/1/06 | 10/22/08 [Insert page number where the document begins] | 5-80-1950. Limited Approval.
5-80-1995 | Existence of permit no defense | 9/1/06 | 10/22/08 [Insert page number where the document begins] | New. Limited Approval.
| * * * * * * *

[FR Doc. E8-25014 Filed 10-21-08; 8:45 am]

BILLING CODE 6560-50-P